DEPARTMENT OF THE INTERIOR

National Park Service

[N6947; NPS-WASO-NAGPRA-NPS0042054; PPWOCRADN0-PCU00RP14.R50000]

Notice of Intended Repatriation: The Museum of Kansas City, Kansas City, MO

AGENCY: National Park Service, Interior.

ACTION: Notice.

SUMMARY: In accordance with the Native American Graves Protection and Repatriation Act (NAGPRA), The Museum of Kansas City (MKC) intends to repatriate certain cultural items that meet the definition of objects of cultural patrimony and that have a cultural affiliation with the Indian Tribes or Native Hawaiian organizations in this notice.

DATES: Repatriation of the cultural items in this notice may occur on or after March 25, 2026.

ADDRESSES: Send additional, written requests for repatriation of the cultural items in this notice to Lisa Shockley, The Museum of Kansas City, 3218 Gladstone Blvd., Kansas City, MO 64123, email lshockley@museumofkansascity.org.

SUPPLEMENTARY INFORMATION: This notice is published as part of the National Park Service's administrative responsibilities under NAGPRA. The determinations in this notice are the sole responsibility of MKC, and additional information on the determinations in this notice, including the results of consultation, can be found in the summary or related records. The National Park Service is not responsible for the determinations in this notice.

Abstract of Information Available

A total of five cultural items have been requested for repatriation.

The five objects of cultural patrimony are two horns, one pipe bowl, one pipe fragment, and one woven yarn bag. The two horns were purchased by MKC in 1980 from a collector in Tulsa, OK. The pipe bowl was collected from the Great Osage Village site 23VE1 and sold to the Bushwacker Museum. MKC purchased it from that museum in 1976. The pipe fragment was collected from the Little Osage Village site in 1938. It was donated to MKC in 1978. The woven yarn bag was collected in Oklahoma in 1915. It was donated to MKC in 1976.

There are no institutional records indicating the presence of any potentially hazardous substances used to treat these items.

Determinations

The MKC has determined that:

• The five objects of cultural patrimony described in this notice have ongoing historical, traditional, or cultural importance central to the Native American group, including any constituent sub-group (such as a band, clan, lineage, ceremonial society, or other subdivision), according to the Native American traditional knowledge of an Indian Tribe or Native Hawaiian organization.

• There is a connection between the cultural items described in this notice and The Osage Nation.

Requests for Repatriation

Additional, written requests for repatriation of the cultural items in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after March 25, 2026. If competing requests for repatriation are received, The Museum of Kansas City must determine the most appropriate requestor prior to repatriation. Requests for joint repatriation of the cultural items are considered a single request and not competing requests. The Museum of Kansas City is responsible for sending a copy of this notice to the Indian Tribes and Native Hawaiian organizations identified in this notice and to any other consulting parties.

Authority: Native American Graves Protection and Repatriation Act, 25 U.S.C. 3004 and the implementing regulations, 43 CFR 10.9.

Dated: February 13, 2026.
Melanie O'Brien,
Manager, National NAGPRA Program.

[FR Doc. 2026-03571 Filed 2-20-26; 8:45 am]

BILLING CODE 4312-52-P